ENVIRONMENTAL PROTECTION AGENCY

[EPA-HQ-OPPT-2011-0832; FRL-9328-1]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Chemical Substances Inventory (TSCA Inventory)) to notify EPA and comply with the statutory provisions pertaining to the manufacture of new chemicals. Under TSCA sections 5(d)(2) and 5(d)(3), EPA is required to publish in the Federal Register a notice of receipt of a premanufacture notice (PMN) or an application for a test marketing exemption (TME), and to publish in the Federal Register periodic status reports on the new chemicals under review and the receipt of notices of commencement (NOC) to manufacture those chemicals. This document, which covers the period from September 26, 2011 to October 31, 2011, and provides the required notice and status report, consists of the PMNs and TMEs, both pending or expired, and the NOC to manufacture a new chemical that the Agency has received under TSCA section 5 during this time period.

DATES: Comments identified by the specific PMN number or TME number, must be received on or before January 9, 2012.

ADDRESSES: Submit your comments, identified by docket identification (ID) number EPA-HQ-OPPT-2011-0832, and the specific PMN number or TME number for the chemical related to your comment, by one of the following methods:

• Federal eRulemaking Portal: http://www.regulations.gov. Follow the on-line instructions for submitting comments.

• Mail: Document Control Office (7407M), Office of Pollution Prevention and Toxics (OPPT), Environmental Protection Agency, 1200 Pennsylvania Ave. NW., Washington, DC 20460-0001.

• Hand Delivery: OPPT Document Control Office (DCO), EPA East Bldg., Rm. 6428, 1201 Constitution Ave., NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave. NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Pollution Prevention and Toxics, Environmental Protection Agency, 1200 Pennsylvania Ave. NW., Washington, DC 20460-0001; telephone number: (202) 564-8951; fax number: (202) 564-8955; email address: mudd.bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action. If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://ww.epa.gov/opt/newchems.

Under TSCA sections 5(d)(2) and 5(d)(3), EPA is required to publish in the Federal Register a notice of receipt of a PMN or an application for a TME and to publish in the Federal Register periodic status reports on the new chemicals under review and the receipt of NOCs to manufacture those chemicals. This status report, which covers the period from September 26, 2011 to October 31, 2011, consists of the PMNs and TMEs, both pending or expired, and the NOCs to manufacture a new chemical that the Agency has received under TSCA section 5 during this time period.

III. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—50 PMNs Received From September 26, 2011 to October 31, 2011
Case No. | Received date | Projected notice end date | Manufacturer/importer | Use | Chemical
P-11-0653 | 9/26/2011 | 12/24/2011 | CBI | (G) Water and oil repellant | (G) Perfluoroalkylethyl methacrylate copolymer.
P-11-0654 | 9/26/2011 | 12/24/2011 | CBI | (G) Epoxy catalyst | (S) Phenol, 2-[[[3-(1h-imidazol-1-yl)propyl]imino]phenylmethyl]-5-(octyloxy)-.
P-11-0655 | 9/27/2011 | 12/25/2011 | Miwon North America, Inc | (S) Resins for industrial coating | (G) Aliphatic epoxy acrylate.
P-11-0656 | 9/27/2011 | 12/25/2011 | Omnova Solutions Inc | (S) Soil release coating for textiles used for non-consumer table linnen | (S) 2-propenoic acid, 2-methyl-, dodecyl ester, polymer with 2-hydroxyethyl 2-propenoate, .alpha.-(2-methyl-1-oxo-2-propen-1-yl)-.omega.-methoxypoly(oxy-1,2-ethanediyl) and 3-methyl-3-[(2,2,3,3,3-pentafluoropropoxy)methyl]oxetane polymer with tetrahydrofuran mono[2-[(1-oxo-2-propen-1-yl)oxy]ethyl] ether.
P-11-0657 | 9/27/2011 | 12/25/2011 | Omnova Solutions Inc | (S) Flow, wetting and leveling agent for commercial photographic film | (S) Boron, trifluoro(tetrahydrofuran)-, (T-4)-, polymer with 3-methyl-3-[(2,2,3,3,3-pentafluoropropoxy)methyl]oxetane, ether with 2,2-dimethyl-1,3-propanediol (2:1), polymer with .alpha.-hydroxy-.omega.-hydroxypoly(oxy-1,2-ethanediyl) and 5-isocyanato-1-(isocyanatomethyl)-1,3,3-trimethylcyclohexane.
P-11-0658 | 9/27/2011 | 12/25/2011 | BASF Corporation | (G) Catalyst ingredient for plastics manufacture | (G) Alkoxy alkanone fluorene.
P-11-0659 | 9/28/2011 | 12/26/2011 | CBI | (G) Reactant to produce new chemical | (G) Alkyl phosphonate.
P-11-0660 | 9/28/2011 | 12/26/2011 | CBI | (G) Oil field additive | (G) Copolymer containing phosphonic, sulfonic and carboxylic acid groups.
P-11-0661 | 9/28/2011 | 12/26/2011 | Great Plains Oil & Exploration, LLC | (S) Feedstock for production of biofuel | (S) Fats and glyceridic oils, camelina sativa.
P-11-0662 | 9/30/2011 | 12/28/2011 | CBI | (G) Liquid moisture cure adhesive | (G) Isocyanate-terminated prepolymer.
P-11-0663 | 9/30/2011 | 12/28/2011 | CBI | (S) Curing agent for epoxy coating systems | (G) Amides, from C18-unsaturated fatty acids dimers,hydrogenated benzaldehyde -polyethylenepolyamines reaction products and tall-oil fatty acids.
P-12-0001 | 10/3/2011 | 12/31/2011 | CBI | (G) Sealant additive | (G) Aromatic isocyanate, alkyl phenol-blocked.
P-12-0002 | 10/6/2011 | 1/3/2012 | CBI | (G) Chemical intermediate | (G) Polyalkoxylated aromatic amine.
P-12-0003 | 10/6/2011 | 1/3/2012 | CBI | (G) Polymeric colorant | (G) Chromophore substituted polyoxyalkylene tint.
P-12-0004 | 10/11/2011 | 1/8/2012 | CBI | (G) Polymeric colorant | (G) Substituted polymeric aromatic amine azo colorant.
P-12-0005 | 10/11/2011 | 1/8/2012 | Sika Corporation | (G) A dispersant for neutralizing electrical charges and separating particles when grinding cement | (S) 2-propanol, 1,1′,1″-nitrilotris-, acetate (1:1).
P-12-0006 | 10/13/2011 | 1/10/2012 | CBI | (G) Adhesive | (G) Alkyldioic acid, polymer with alkyldiol, aromatic isocyanate and alkyloxirane polymer with oxirane ether with alkyltrio(3:1).
P-12-0007 | 10/13/2011 | 1/10/2012 | CBI | (G) Adhesive | (G) Alkyldioic acid, polymer with alkyldiol, .alpha.-hydro-.omega.-hydroxypoly[oxy(alkyldiyl)], aromatic isocyanate and alkyloxirane polymer with oxirane ether with alkyltrio(3:1).
P-12-0008 | 10/13/2011 | 1/10/2012 | CBI | (G) Open non despersive coating | (G) Aliphatic polyurethane resin.
P-12-0009 | 10/12/2011 | 1/9/2012 | CBI | (G) Open, non-dispersive use; ingredient in liquid paint | (G) Metal complex, copolymer of substituted acrylic acid, substituted methacrylate, substituted acrylate, and ethylene glycol substituted acrylate alkyl ether.
P-12-0010 | 10/14/2011 | 1/11/2012 | Reichhold, Inc | (S) Carrier resin for paints and coatings | (G) Amine salt of vegetable oil esters, polymer with alkanedioic acid, hydroxy substituted alkylamine, hydroxy substituted carboxylic acid, alkanediol, isocyanates, hydroxy substituted alkane.
P-12-0011 | 10/17/2011 | 1/14/2012 | BASF Corporation | (G) Additive | (G) Hydroxy, halogen substituted diaromatic ether.
P-12-0012 | 10/17/2011 | 1/14/2012 | Dow Chemical Company | (S) Reactant for polyurethane cast elastomers | (G) Polyester polyol.
P-12-0013 | 10/17/2011 | 1/14/2012 | CBI | (G) Additive in printing inks | (G) Crosslinked polyalkyl methacrylate.
P-12-0014 | 10/18/2011 | 1/15/2012 | Dow Chemical Company | (S) Reactant for polyurethane cast elastomers | (G) Blocked toluene diisocyanate prepolymer.
P-12-0015 | 10/17/2011 | 1/14/2012 | Spectra Colors Corporation | (G) Dye for washable ink systems | (G) Substituted aniline, benzenesulfonic acid salt.
P-12-0016 | 10/18/2011 | 1/15/2012 | Innovative Science Technology | (S) Plasticizer for polyvinyl chloride resin | (S) Waste plastics, poly(ethylene terephthalate), depolymerized. with by-products from prod. of 2-butoxyethanol, and isotridecanol, ethylene glycol-free fraction.
P-12-0017 | 10/19/2011 | 1/16/2012 | Sud-Chemie Inc | (G) Raw material in manufacturing | (S) Phosphoric acid, iron(2+) lithium salt (1:1:1).
P-12-0018 | 10/20/2011 | 1/17/2012 | CBI | (S) A component of industrial epoxy adhesive formulations | (G) Rubberized epoxy resin.
P-12-0019 | 10/20/2011 | 1/17/2012 | Henkel Corporation | (S) Glue stick | (S) Starch carboxymethyl 2-hydroxypropyl ether.
P-12-0020 | 10/21/2011 | 1/18/2012 | CBI | (G) A component of leather finishing treatment | (G) Polyurethane aqueous dispersion.
P-12-0021 | 10/19/2011 | 1/16/2012 | CBI | (S) Petroleum fuel blend and distillation/fractionation.feedstock | (G) Petroleum distillate heavies.
P-12-0022 | 10/24/2011 | 1/21/2012 | CBI | (G) The new chemical will be used as a photoluminescent pigment. The pigment will be shipped to our customers who will incorporate the pigment into fluids, paints, coatings, inks, injection molding etc. for, but not limited to: Emergency signs, traffic indication signs, switches, military applications, high visibility signs, safety location markings and any other application where a long afterglow and/or lighting is needed | (G) Complex strontium aluminate rare earth doped″.
P-12-0023 | 10/24/2011 | 1/21/2012 | CBI | (G) The new chemical will be used as a photoluminescent pigment. The pigment will be shipped to our customers who will incorporate the pigment into fluids, paints, coatings, inks, injection molding etc. for, but not limited to: Emergency signs, traffic indication signs, switches, military applications, high visibility signs, safety location markings and any other application where a long afterglow and/or lighting is needed | (G) Complex strontium aluminate rare earth doped″.
P-12-0024 | 10/24/2011 | 1/21/2012 | CBI | (G) The new chemical will be used as a photoluminescent pigment. The pigment will be shipped to our customers who will incorporate the pigment into fluids, paints, coatings, inks, injection molding etc. for, but not limited to: Emergency signs, traffic indication signs, switches, military applications, high visibility signs, safety location markings and any other application where a long afterglow and/or lighting is needed | (G) Complex strontium aluminate rare earth doped″.
P-12-0025 | 10/24/2011 | 1/21/2012 | CBI | (G) The new chemical will be used as a photoluminescent pigment. The pigment will be shipped to our customers who will incorporate the pigment into fluids, paints, coatings, inks, injection molding etc. for, but not limited to: Emergency signs, traffic indication signs, switches, military applications, high visibility signs, safety location markings and any other application where a long afterglow and/or lighting is needed | (G) Complex strontium aluminate rare earth doped″.
P-12-0026 | 10/24/2011 | 1/21/2012 | CBI | (G) The new chemical will be used as a photoluminescent pigment. The pigment will be shipped to our customers who will incorporate the pigment into fluids, paints, coatings, inks, injection molding etc. for, but not limited to: Emergency signs, traffic indication signs, switches, military applications, high visibility signs, safety location markings and any other application where a long afterglow and/or lighting is needed | (G) Complex strontium aluminate rare earth doped″.
P-12-0027 | 10/26/2011 | 1/23/2012 | Colonial Chemical, Inc | (S) Dispersant—pigment in water based paint; hard water cleaning | (S) D-glucopyranose, oligomeric, C10-16-alkyl glycosides, 2,3-dihydroxypropyl ethers, hydrogen maleates, sodium salts, polymers with 1,3-dichloro-2-propanol.
P-12-0028 | 10/26/2011 | 1/23/2012 | Colonial Chemical, Inc | (S) Dispersant—pigment in water based paint; hard water cleaning | (S) D-glucopyranose, oligomeric, C10-16-alkyl glycosides, 2,3-dihydroxypropyl ethers, hydrogen succinates, sodium salts, polymers with 1,3-dichloro-2-propanol.
P-12-0029 | 10/26/2011 | 1/23/2012 | Colonial Chemical, Inc | (S) Dispersant—pigment in water based paint; hard water cleaning | (S) D-glucopyranose, oligomeric, decyl octyl glycosides, 2,3-dihydroxypropyl ethers, hydrogen maleates, sodium salts, polymers with 1,3-dichloro-2-propanol.
P-12-0030 | 10/27/2011 | 1/24/2012 | CBI | (G) Open, non-dispersive textile finish | (G) Modified fluorinated acrylate.
P-12-0031 | 10/27/2011 | 1/24/2012 | CBI | (G) Open, non-dispersive textile finish | (G) Modified fluorinated acrylate.
P-12-0032 | 10/27/2011 | 1/24/2012 | CBI | (G) Open, non-dispersive textile finish | (G) Modified fluorinated acrylate.
P-12-0033 | 10/27/2011 | 1/24/2012 | Aceto Corporation | (S) Intermediate used in the manufacture of an imaging/media product | (S) Benzoic acid, 4-(1,1-dimethylethyl)-, methyl.
P-12-0034 | 10/27/2011 | 1/24/2012 | CBI | (G) A component of leather finishing treatment | (G) Polyacrylate aqueous dispersion.
P-12-0035 | 10/29/2011 | 1/26/2012 | CBI | (G) Ferrite dispersion ink additive to ensure magnetic performance characteristics | (G) Cobalt iron manganese oxide, carboxylic acid-modified.
P-12-0036 | 10/31/2011 | 1/28/2012 | CBI | (S) Fluorescent brightener for use in cellulosic paper applications | (G) Triazinylaminostilbene.
P-12-0037 | 10/28/2011 | 1/25/2012 | CBI | (G) Sizing for glass fibre | (G) Epoxy-novolac resin in non-ionic water emulsion.
P-12-0038 | 10/28/2011 | 1/25/2012 | CBI | (G) Synthetic leather | (G) Elastomer polyurethane.
P-12-0039 | 10/31/2011 | 1/28/2012 | CBI | (G) Open, non-dispersive use | (G) Acrylic polymer.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—2 TMEs Received From September 26, 2011 to October 31, 2011
Case No. | Received date | Projected notice end date | Manufacturer /importer | Use | Chemical
T-12-0001 | 10/19/2011 | 12/2/2011 | CBI | (S) Petroleum fuel blend and distillation/fractionation.feedstock | (G) Petroleum distillate heavies.
T-12-0002 | 10/25/2011 | 12/8/2011 | Innovative Science Technology | (S) Plasticizer for polyvinyl chloride resin | (S) Waste plastics, poly (ethylene terephthalate), depolymd, with by-products from manuf. of 2-butoxyethanol, and isotridecanol, ethylene glycol-free fraction.

In Table III. of this unit, EPA provides the following information (to the extent that such information is not claimed as CBI) on the NOCs received by EPA during this period: The EPA case number assigned to the NOC, the date the NOC was received by EPA, the projected end date for EPA's review of the NOC, and chemical identity.

Table III—55 NOCs Received From September 26, 2011 to October 31, 2011
Case No. | Received date | Commencement notice end date | Chemical
P-04-0190 | 10/4/2011 | 9/20/2011 | (G) Polyester acrylate.
P-07-0143 | 9/26/2011 | 9/23/2011 | (G) Alkanoldioic acid, dialkyl ester.
P-07-0666 | 10/8/2011 | 9/26/2011 | (G) Poly(ethylene oxide).
P-08-0354 | 10/12/2011 | 9/8/2011 | (G) 2-propenoic acid, 2-methyl-, methyl ester, polymer with butyl propenoate and substituted-propyl 2-methyl-2-propenoate, 2,2′-(1,2-diazenediyl)bis[2-methylbutanenitrile]-initiated.
P-08-0419 | 10/14/2011 | 9/21/2011 | (G) Aromatic dimethaneamine, reaction products with aromatic glycidlyl ether.
P-09-0009 | 10/7/2011 | 9/10/2011 | (G) Glycolate ester.
P-09-0168 | 9/27/2011 | 9/9/2011 | (G) Substituted styrene acrylate copolymer.
P-09-0410 | 10/4/2011 | 9/13/2011 | (G) Carbonic acid di-alkyl ester polymer with polyether polyol, alkyl isocyante and glycol ether.
P-10-0106 | 10/20/2011 | 10/3/2011 | (G) Hydroxyl-terminated aliphatic polycarbonate.
P-10-0111 | 10/24/2011 | 10/6/2011 | (G) Benzene dicarboxylic acid, polyester with glycol and polyethylene glycol.
P-10-0150 | 10/20/2011 | 9/29/2011 | (G) Hydroxy-terminated; aliphatic polycarbonate.
P-10-0286 | 10/20/2011 | 9/28/2011 | (G) Hydroxyl-terminated aliphatic polycarbonate.
P-10-0287 | 10/20/2011 | 9/26/2011 | (G) Hydroxyl-terminated aliphatic polycarbonate.
P-10-0288 | 10/20/2011 | 9/23/2011 | (G) Hydroxyl-terminated aliphatic polycarbonate.
P-10-0289 | 10/20/2011 | 9/22/2011 | (G) Hydroxyl-terminated aliphatic polycarbonate.
P-10-0354 | 10/28/2011 | 10/17/2011 | (G) Acrylonitrile-acrylate copolymer.
P-10-0426 | 9/26/2011 | 9/2/2011 | (G) Halo substituted sulfamidylbenzyluraciil.
P-10-0451 | 10/14/2011 | 10/10/2011 | (G) Acrylic silane polymer.
P-10-0529 | 9/27/2011 | 9/13/2011 | (G) Copolymer containing phosphonic, sulfonic and carboxylic acid groups.
P-11-0036 | 10/12/2011 | 10/10/2011 | (G) Alkyl alkoxy sulfate sodium salt.
P-11-0043 | 10/12/2011 | 7/21/2011 | (S) Disiloxane, 1-butyl-1,1,3,3-tetramethyl-*.
P-11-0045 | 10/12/2011 | 7/21/2011 | (S) Pentasiloxane, 1-butyl-1,1,3,3,5,5,7,7,9,9-decamethyl-*.
P-11-0046 | 10/12/2011 | 7/21/2011 | (S) Siloxanes and silicones, di-me, bu group- and hydrogen-terminated*.
P-11-0169 | 10/22/2011 | 10/11/2011 | (G) Alkyl aryl substituted pyrrolo benzotriazole dione.
P-11-0172 | 9/28/2011 | 9/27/2011 | (G) Methacrylated C8-18 fatty acids; methacrylate fatty acids; mc818.
P-11-0179 | 10/4/2011 | 8/21/2011 | (G) Water dispersed blocked isocyanate.
P-11-0233 | 10/7/2011 | 7/14/2011 | (G) Phenol, 4,4′-(1-methylethylidene)bis-, polymer with 2-(chloromethyl)oxirane, reaction products with N3-(3-(dimethylamino)propyl]-N1,N1-dimethyl-alkanepolyamine, compds. with formaldehyde-phenol polymer.
P-11-0235 | 10/11/2011 | 9/19/2011 | (G) Polyacrylate oligomer product from saturated dimer acid, propoxylated glycerol and acrylic acid.
P-11-0258 | 10/17/2011 | 10/6/2011 | (G) Epoxy and isocyanate modified aliphatic polyamine.
P-11-0260 | 10/14/2011 | 9/27/2011 | (G) Isocyanate-terminated prepolymer.
P-11-0285 | 10/25/2011 | 10/7/2011 | (G) Acid anhydride, polymer with aromatic isocyanate and polyalkyleneglycol, alkanol and diazole alkanamine and lactone homopolymer alkyl ester-blocked.
P-11-0305 | 10/31/2011 | 9/29/2011 | (G) Polyester diol.
P-11-0326 | 10/25/2011 | 10/20/2011 | (G) Glycerylether.
P-11-0337 | 10/25/2011 | 10/7/2011 | (S) 4,7-decadienal.
P-11-0362 | 9/28/2011 | 9/26/2011 | (G) Phosphonium-substituted heteroaromatic sulfate salt.
P-11-0369 | 10/17/2011 | 9/20/2011 | (G) Alkyl polyester-acrylic copolymer.
P-11-0372 | 10/17/2011 | 9/19/2011 | (G) Polyesterurethane.
P-11-0373 | 9/26/2011 | 8/26/2011 | (G) 1,1′-methylenebis[isocyanatobenzene], polymer with polyester polyols and polypropylene glycol.
P-11-0393 | 9/28/2011 | 9/21/2011 | (G) Waterborne aliphatic polyurethane.
P-11-0398 | 10/12/2011 | 10/10/2011 | (S) Poly(oxy-1,2-ethanediyl), .alpha.-(1-oxooctyl)-.omega.-methoxy-*.
P-11-0399 | 10/12/2011 | 10/10/2011 | (S) Poly(oxy-1,2-ethanediyl), .alpha.-(1-oxodecyl)-.omega.-methoxy-*.
P-11-0403 | 9/29/2011 | 9/22/2011 | (G) Fatty acid esters.
P-11-0409 | 10/11/2011 | 9/23/2011 | (G) Multifunctional polycarbodiimide.
P-11-0410 | 10/27/2011 | 10/11/2011 | (G) Methacrylic resin containing cyclic structure unit.
P-11-0423 | 10/13/2011 | 9/27/2011 | (G) Acrylate copolymer.
P-11-0425 | 9/30/2011 | 9/22/2011 | (G) Poly (3-hydroxybutyrate-co-3-hydroxyhexanoate).
P-11-0426 | 10/5/2011 | 9/22/2011 | (G) Poly (3-hydroxybutyrate-co-3-hydroxyhexanoate).
P-11-0427 | 9/30/2011 | 9/22/2011 | (G) Poly (3-hydroxybutyrate-co-3-hydroxyhexanoate).
P-11-0428 | 9/30/2011 | 9/22/2011 | (G) Poly (3-hydroxybutyrate-co-3-hydroxyhexanoate).
P-11-0429 | 9/30/2011 | 9/22/2011 | (G) Poly (3-hydroxybutyrate-co-3-hydroxyhexanoate).
P-11-0430 | 10/5/2011 | 9/22/2011 | (G) Poly (3-hydroxybutyrate-co-3-hydroxyhexanoate).
P-11-0434 | 9/26/2011 | 9/15/2011 | (G) Cashew, nutshell liquid, polymer with arylalkylamine, bisphenol A, epichlorohydrin and formaldehyde.
P-11-0446 | 10/21/2011 | 10/15/2011 | (G) Carbopolycycle-bis(diazonium), dihalo, chloride (1:2), reaction products with metal sulfate, calcium carbonate, N-(2-alkylphenyl)-oxoalkanamide, potassium 4-[dioxoalkylamino]substituted benzene (1:1) and sodium hydroxide.
P-11-0467 | 10/28/2011 | 10/26/2011 | (G) Polyether sulfate salt derivative.
P-11-0470 | 10/10/2011 | 10/7/2011 | (G) Polyester substituted polycyclic aromatic colorant.

If you are interested in information that is not included in these tables, you may contact EPA as described in Unit II. to access additional non-CBI information that may be available.

List of Subjects

Environmental protection, Chemicals, Hazardous substances, Imports, Notice of commencement, Premanufacturer, Reporting and recordkeeping requirements, Test marketing exemptions.

Dated: November 16, 2011.
Chandler Sirmons,
Acting Director, Information Management Division, Office of Pollution Prevention and Toxics.

[FR Doc. 2011-31645 Filed 12-8-11; 8:45 am]

BILLING CODE 6560-50-P